ENVIRONMENTAL PROTECTION AGENCY

[FRL-6603-8]

Agency Information Collection Activities: Proposed Collection: Comment Request; Investigations Into Compliance of Stationary Sources with the Accidental Release Prevention Program

AGENCY: Environmental Protection Agency (EPA).

ACTION: Notice.

SUMMARY: In compliance with the Paperwork Reduction Act (44 U.S.C. 3501 et seq.), this document announces that EPA is planning to submit the following proposed Information Collection Request (ICR) to the Office of Management and Budget (OMB) for review and approval: Investigations Into Possible Noncompliance of Stationary Sources with the Accidental Release Prevention Program, EPA ICR No. 1908.01. Before submitting the ICR to OMB for review and approval, EPA is soliciting comments on specific aspects of the proposed information collection as described below.

DATES: Comments must be submitted on or before July 10, 2000.

ADDRESSES: Superfund Division, Office of Chemical Emergency Preparedness and Prevention, Region 5, United States Environmental Protection Agency, SC-6J, 77 W. Jackson Blvd., Chicago, Illinois 60604-3590.

FOR FURTHER INFORMATION CONTACT: Silvia Palomo, Telephone Number: (312) 353-2172, E-Mail:palomo.silvia@epa.gov

SUPPLEMENTARY INFORMATION:

Affected entities: Entities potentially affected by this action are major stationary sources of air emissions that have applied for/or obtained a Title V operating permit.

Title: Investigations into Compliance of Stationary Sources with the Accidental Release Prevention Program established in 40 CFR Part 68, EPA ICR No. 1956.01. This is a new collection.

Abstract: On June 20, 1996, EPA published risk management regulations mandated under the accidental release prevention provisions under the Clean Air Act Section 112(r)(7), 42 U.S.C. 7412(r)(7). These regulations were codified in 40 CFR Part 68. The intent of Section 112(r) is to prevent accidental releases to the air and mitigate the consequences of such releases by focusing prevention measures on chemicals that pose the greatest risk to the environment. The chemical accident prevention rule required owners and operators of stationary sources subject to the rule to submit a risk management plan by June 21, 1999 to EPA. The Office of Chemical Emergency Preparedness and Prevention (OCEPP), Superfund Division, Region 5, is responsible for implementing and enforcing the Risk Management Program. In order to fulfill its responsi-bilities as the implementing office, OCEPP will collect information from major stationary sources of air emissions to determine whether or not these sources are in compliance with the risk management program regulations. The information will be requested through certified mail and pursuant to Section 114(a) of the Clean Air Act, 42 U.S.C. 7414(a). Therefore, response to the information collection is mandatory.

Any information submitted to EPA for which a claim of confidentiality is made will be safeguarded according to the Agency policies set forth in Title 40, Chapter 1, Part 2, Subpart B—Confidentiality of Business Information (see 40 CFR 2; 41 FR 36902, September 1, 1976; amended by 43 FR 40000, September 8, 1978; 43 FR 42251, September 20, 1978; 44 FR 17674, March 23, 1979). An agency may not conduct or sponsor, and a person is not required to respond to, a collection of information unless it displays a currently valid OMB control number.

The OMB control numbers for EPA's regulations are listed in 40 CFR part 9 and 48 CFR Chapter 15. The information collected will include the names of the regulated substances used, produced, or stored on-site; amount of the regulated substances; copies of inventory records; copies of Material Safety Data Sheets; capacity of the container which stores or handles the regulated substance; and the number of employees.

The EPA would like to solicit comments to:

(i) Evaluate whether the proposed collection of information is necessary for the proper performance of the functions of the agency, including whether the information will have practical utility;

(ii) Evaluate the accuracy of the Agency's estimate of the burden of the proposed collection of information, including the validity of the methodology and assumptions used;

(iii) Enhance the quality, utility, and clarity of the information to be collected; and

(iv) Minimize the burden of the collection of information on those who are to respond, including through the use of appropriate automated electronic, mechanical, or other technological collection techniques or other forms of information technology, e.g., permitting electronic submission of responses.

Burden Statement: EPA estimates that a total of 2,000 respondents will receive the request for information. The total burden for the respondents for this collection of information is estimated to be 3,000 hours with an average of 1.5 hours per response and a labor cost of $49. The responses will be one-time, and do not involve periodic reporting or recordkeeping. No capital or start-up expenses will be required Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Dated: April 28, 2000.
William Muno,
Director, Superfund Division.

[FR Doc. 00-11568 Filed 5-8-00; 8:45 am]

BILLING CODE 6560-50-P